NATIONAL SCIENCE FOUNDATION

Advisory Committee for Geosciences; Notice of Meeting

In accordance with the Federal Advisory Committee Act (Pub. L. 92-463, as amended), the National Science Foundation announces the following meeting:

Name: Advisory Committee for Geosciences (1755).

Dates: October 13, 2011 8:30 a.m.-5,p.m. October 14, 2011 8:30 a.m.-2 p.m.

Place: Stafford I, Room 1235, National Science Foundation, 4201Wilson Blvd. Arlington, Virginia 22230.

Type Of Meeting: Open.

Contact Person: Melissa Lane, National Science Foundation, Suite 705, 4201 Wilson Blvd, Arlington, Virginia 22230; Phone 703-292-8500.

Minutes: May be obtained from the contact person listed above.

Purpose Of Meeting: To provide advice, recommendations, and oversight concerning support for geosciences.

Agenda

October 13, 2011

• Update on Directorate Activities and Plans

• Division Subcommittee Meetings

• Division Subcommittee Reports

• Report on the Merit Review Task Force

October 14, 2011

• Topical Subcommittee Meetings

• Topical Subcommittee Reports

• Panel of Opportunities for Enhancing Diversity in the Geosciences Awardees

• Action Items/Planning for Fall Meeting

Dated: September 13, 2011.
Susanne Bolton,
Committee Management Officer.

[FR Doc. 2011-23751 Filed 9-15-11; 8:45 am]

BILLING CODE 7555-01-P